ENVIRONMENTAL PROTECTION AGENCY

[FRL-7880-1]

Announcement of the Board of Trustees for the National Environmental Education and Training Foundation, Inc.

SUMMARY: The National Environmental Education and Training Foundation was created by Section 10 of Public Law 101-619, the National Environmental Education Act of 1990. It is a private 501(c)(3) non-profit organization established to promote and support education and training as necessary tools to further environmental protection and sustainable, environmentally sound development. It provides the common ground upon which leaders from business and industry, all levels of government, public interest groups, and others can work cooperatively to expand the reach of environmental education and training programs beyond the traditional classroom. The Foundation supports a grant program that promotes innovative environmental education and training programs; it also develops partnerships with government and other organizations to administer projects that promote the development of an environmentally literal public.

The Administrator of the U.S. Environmental Protection Agency, as required by the terms of the Act, announces the following appointment to the National Environmental Education and Training Foundation, Inc. Board of Trustees. The appointee is Arthur Gibson, Vice President of Environment, Health and Safety for Home Depot. This appointee will join the current Board members which include:

• Braden Allenby, Vice President, Environment, Health and Safety, AT&T.

• Richard Bartlett, (NEETF Chairman) Vice Chairman, Mary Kay Holding Corporation.

• Dorothy Jacobson, Consultant.

• Karen Bates Kress, President, KBK Consulting, Inc.

• Dorothy McSweeny, (NEETF Vice Chair), Chair, DC Commission on the Arts and Humanities.

• Honorable William Sessions, former Director of the Federal Bureau of Investigation.

Additional Considerations: Great care has been taken to assure that this new appointee not only has the highest degree of expertise and commitment, but also brings to the Board diverse points of view relating to environmental education and training.

This appointment shall be for two consecutive four year terms.

FOR FURTHER INFORMATION CONTACT: C. Michael Baker, 202-564-0446, Acting Director, Office of Environmental Education, Office of Public Affairs (1704A) U.S. EPA 1200 Pennsylvania Ave., NW., Washington, DC 20460.

Dated: February 18, 2005.
Stephen L. Johnson,
Acting Administrator.

BIO of New Member

Arthur J. Gibson, Vice President, Environmental, Health & Safety; The Home Depot, Inc.

Arthur J. Gibson is Vice President of Environmental, Health and Safety for Home Depot, Inc.

He is responsible for leading the strategy, planning processes, and the day to day functional operations of the Environmental, Health and Safety Organization.

Prior to joining The Home Depot, Art served as Senior Vice President of Corporate Environmental, Health, Safety, Security and Workers' Compensation for the R.R. Donnelley Corporation. Prior to his tenure with R.R. Donnelley, Art was with the Grumman Corporation, where he was the Corporate Director of Environmental, Health, Safety, Medical Services and Energy. Art was also an Aeronautical Design Engineer at Grumman Aerospace Corporation.

Mr. Gibson holds Bachelor's degrees in American Foreign Policy and Aeronautical Engineering from Cornell University and an MBA in International Finance from Long Island University.

Art currently resides in Atlanta, GA with his wife Patricia and their three children, Sarah, Abigail and Matthew.

[FR Doc. 05-4264 Filed 3-3-05; 8:45 am]

BILLING CODE 6560-50-P